DEPARTMENT OF TRANSPORTATION

Federal Aviation Administration

Proposed Finding of No Significant Impact

AGENCY: Federal Aviation Administration (FAA), Department of Transportation (DOT).

ACTION: Proposed Finding of No Significant Impact.

SUMMARY: The FAA prepared an Environmental Assessment (EA) evaluating Kistler Aerospace Corporation's proposal to construct and operate commercial launch and reentry/recovery facilities at the Nevada Test Site (NTS) on land withdrawn from the public domain for use by the U.S. Department of Energy (DOE). After reviewing and analyzing currently available data and information on existing conditions, project impacts, and measures to mitigate those impacts, the Federal Aviation Administration (FAA), office of the Associate Administrator for Commercial Space Transportation (AST) proposes to determine that licensing of the proposed launch and reentry activities are not a major Federal action that would significantly affect the quality of the human environment within the meaning of the National Environmental Policy Act (NEPA) of 1969. Therefore, the preparation of an Environmental Impact Statement (EIS) would not be required and AST is proposing to issue a Finding of No Significant Impact (FONSI).

For a copy of the Environmental Assessment or to provide comments regarding Kistler Aerospace Corporation launch/reentry operations contact: Mr. Nikos Himaras, Office of the Associate Administrator for Commercial Space Transportation, Space Systems Development Division, Suite 331/AST-100, 800 Independence Avenue, SW, Washington, D.C. 20591; phone (202) 267-7926; or refer to the following Internet address: http://ast.faa.gov.

DATES: There will be a thirty (30) day comment period before the FAA makes its final determination on the proposed FONSI. Interested individuals, Government agencies, and private organizations are invited to send comments on the proposed FONSI and/or the Environmental Assessment to the address set forth above by May 22, 2000 by mail.

In addition, a public meeting will be held to record verbal comments made by members of the public on May 2, 2000 in Las Vegas, Nevada. Comments received at this meeting will be responded to in a Comment Response document to be produced by the FAA. Additional information about this meeting is available at the following Internet address: http://ast.faa.gov.

Proposed Action

Kistler Aerospace Corporation (Kistler) proposes to conduct commercial launch and reentry/recovery operations at the Nevada Test Site (NTS). The operations would include pre-flight activities, launch/flight operations, and reentry/recovery operations. Kistler proposes to construct a base of operations consisting of a private launch site (including a vehicle processing facility) for its exclusive use, a payload processing facility, and a vehicle landing and recovery area. Upon receipt of a completed license application, AST must determine whether or not to issue a license to Kistler authorizing launch and reentry operations involving the K-1 vehicle. Licensing launch of a launch vehicle and reentry of a reentry vehicle are Federal actions requiring environmental analysis by the FAA in accordance with NEPA. The proposed action is the licensing by FAA of a maximum of 52 launches and reentries per year.

Kistler intends to use a fleet of five K-1 vehicles at a maximum flight rate of 52 launches per year, once the system is fully operational, to deploy payloads into low earth orbit. The K-1 vehicle is a two-stage (i.e., Launch Assist Platform (LAP) and Orbital Vehicle (OV)) fully reusable launch vehicle. Liquid oxygen (LOX) and kerosene (RP-1) fuel both stages, with the LAP using start cartridges containing a small amount of solid propellant to initiate the fuel flow. The K-1 is designed to require less pre-flight and post-flight processing and to minimize electronic, hydraulic, and fuel line connections/disconnections between flights.

The Kistler facilities would be sited within the NTS, an area that is removed from public use. The NTS is primarily an industrial area that previously hosted extensive nuclear tests. The Nevada Test and Training Range (also known as the Nellis Air Force Range) and the Nellis Air Force Base borders the NTS. Both of these are sites of frequent military aircraft training flights. Therefore, the NTS and surrounding communities are accustomed to land use for flight testing purposes. The use of the NTS by Kistler for the purpose of launching and reentering commercial launch vehicles is consistent with community planning activities in the areas around the NTS.

The FAA and Department of Energy (DOE) are directly involved in the proposed action. The FAA is the lead federal agency for the NEPA process and is responsible for licensing and regulating Kistler's launch and reentry operations under 49 U.S.C. subtitle IX, ch. 701. DOE is a cooperating agency for the NEPA process and will provide land and certain infrastructure to the Nevada Test Site Development Corporation (NTSDC) which in turn created a subpermit for Kistler. The DOE prepared a Final Environmental Impact Statement for the Nevada Test Site and Off-Site Locations in the State of Nevada August 1996 (NTS EIS). The DOE issued a Record of Decision (ROD) on December 9, 1996, in which it decided to implement a combination of alternatives including expanded use, no action, and alternative uses i.e., non-defense and private endeavors, for the NTS. It specifically identified Kistler as an example of a potential private use at the NTS. In accordance with Council on Environmental Quality (CEQ) regulations, this EA incorporates by reference the Programmatic Environmental Assessment for Commercial Expendable Launch Vehicles (PEA ELV) (AST 1986), the Final Programmatic Environmental Impact Statement for Commercial Reentry Vehicles (PEIS Reentry Vehicles) (AST 1992), and the NTS EIS (DOE 1996).

Environmental Impacts

Air Quality

Air emissions would result from the construction activities, launch, flight, and reentry operations. Fugitive dust, particulate matter, and engine exhaust concentrations created during construction activities are estimated to be less than federal or state standards. Maximum concentrations of PM10 averaged over 24 hours should not exceed 135 micrograms/cubic meter, which is below the national and Nevada State standard of 150 micrograms/cubic meter. This maximum concentration would occur in a controlled area and thus would not pose hazards to the public or to on-site personnel. Carbon monoxide (CO), sulfur dioxide (SO2), and nitrogen dioxide (NO2) emissions from vehicle and equipment exhaust during construction were all estimated to be much less than federal or state standards and therefore would pose little to no impact on the environment.

Emissions from the K-1 launch vehicle would include those from the start cartridges (i.e., CO and hydrogen chloride [HCl]) and those from the K-1 engines during the launch (primarily CO2, H2O and CO). The 2.14 kilograms (kg) of HCl produced during one launch would be dispersed over a large area and would have little impact on air quality. CO emissions include about 3 kg from start cartridges, 8,179 kg from liftoff through the first 500 meters of the atmosphere, and 35,124 kg in the troposphere (500 meters to 20 kilometers). These estimated emissions from the K-1 were compared to those of the Titan IIIE/Centaur. Titan IIIE/Centaur emissions are well documented. The K-1 CO emissions are estimated to be less than 50 percent of the Titan IIIE/Centaur. CO emissions are also expected to be much less than the 6 parts per million (ppm) Nevada standard for sites above 1,524 meters and less than the national standard of 9 ppm. Thus, CO emissions are not expected to adversely affect air quality.

In the upper atmosphere beginning at about 20 kilometers, H2O and CO2 may be considered potential pollutants due to their low natural concentration and possible influence on the Earth's heat balance. Upper atmospheric emissions of the Kistler vehicle were compared to those of the Titan IIIE/Centaur. K-1 CO2 emissions are greater than those of the Titan IIIE/Centaur are. H2O emissions are less than the Titan IIIE/Centaur. Although the K-1 emits more CO2 than the Titan IIIE/Centaur, emissions are still less than those expected to produce detectable changes in the upper atmosphere. The PEA ELV states that launch emissions of H2O and CO2 for the Titan IIIE/Centaur vehicle appear to be considerably lower than those expected to cause significant impacts in the upper atmosphere. Based on the comparison of emissions with the Titan IIIE/Centaur, Kistler launches are not expected to significantly impact the upper atmosphere. Landing and recovery operations and general maintenance of the vehicle processing facility and launch/reentry site are expected to generate negligible emissions in comparison to construction, pre-flight, launch, and recovery activities. Impacts to air quality from the proposed activities are expected to be insignificant.

Noise

Noise impacts would occur during construction, launch of the vehicle, and vehicle reentry. Construction activities and traffic noise would temporarily increase the ambient noise levels. Workers would wear protective hearing equipment in accordance with Occupational Safety and Health Administration (OSHA) regulations. The general public would not be in the immediate vicinity of the construction site. The closest public access is more than 32 km from the vehicle processing facility and launch site and more than 24 km from the landing and recovery area. Maximum predicted construction noise levels at 24 km would be less than 40 dBA, which would be undetectable with normal daytime ambient noise levels. Therefore, adverse impacts to the general public and construction workers as a result of construction noise are not expected.

Noise impacts during launch of operational flights consist of the reusable launch vehicle's engine noise. Predicted noise levels are well within occupational operating parameters for facility work (i.e., only during the first 18 seconds after the launch would workers in the vehicle processing facility need hearing protection with predictions of 106 dBA). Noise levels at the closest public access (about 32 km) are estimated to be below 77 dBA. Off-site locations would experience no significant launch noise impacts.

Sonic booms would be generated during the vehicle ascent and the reentry stages descent to the landing and recovery area. Sonic boom levels generated outside NTS boundaries would resemble distant thunder or fireworks and have no significant impact on surrounding communities.

Socioeconomic and Environmental Justice

The proposed action is expected to create an average of 85 direct full-time jobs and 28 direct part-time jobs during construction and 90 direct full-time and 28 direct part-time jobs during normal operation. Of the total projected increase in workers, the majority is expected to live in the Las Vegas, Clark County area. Positive impacts to the local economy are expected as a result of the proposed action. In addition, no disproportionate effects on economically disadvantaged or minority groups are anticipated as a result of the proposed action.

Visual Resources

Visual resources are analyzed with respect to intensity and context. Kistler actions are classified as either “not noticeable” or “visually subordinate.” The nearest vantage point is the main highway, U.S. 95, more than 45 km from Kistler facilities. Several ridges of hills obscure the view from this route. Kistler activities would not be visible to the general public. Thus, there are no expected impacts to visual resources.

Biological Resources

Vegetation

Construction of the proposed Kistler facilities would result in surface clearing of vegetation from an area totaling 671 acres. The loss of vegetation, as a result of clearing, would represent approximately 0.008 percent of the total Artemesia Type vegetation on the NTS. Therefore, loss is not expected to adversely affect local or regional diversity of plants and plant communities.

Areas for ground based operations at the payload processing facility (8 acres) and launch site (14 acres) would be cleared as part of construction activities. Buildings or pavement would cover both operational areas. The reentry, landing, and recovery area would be impacted but would be permitted to re-vegetate naturally with herbaceous vegetation.

Launch emissions may damage or destroy vegetation due to high temperature exhaust and small amounts of corrosive HCl exhaust gas. Deposition of greater than 1.0 gram per square meter of HCl is necessary to cause vegetative damage; the K-1 launch vehicle would deposit about 0.009 grams per square meter over an area of 0.26 square kilometers. Therefore, adverse impacts to vegetation from HCl deposition are expected to be negligible.

Wildlife

Potential impacts to wildlife from construction activities would result in a permanent loss of available habitat and possible degradation of adjacent habitats due to an increase in noise and human activity. The habitat loss is not expected to adversely affect the local or regional diversity of animal species or populations.

Day-to-day operations would not extend beyond the developed areas and would not be expected to cause a disturbance to animals inhabiting the adjacent areas. Although the Kistler facilities would be located outside the known habitat of the desert tortoise, the desert tortoise does exist on the NTS. The desert tortoise is listed as threatened by the U.S. Fish and Wildlife Service. Kistler employees would receive desert tortoise protective training as mandated for all NTS employees.

Noise generated by vehicle launches inside the NTS, including sonic booms, could cause a startle response and temporary hearing impairment to birds and mammals. These impacts are not expected to affect the viability or diversity of the wildlife population at the site. Wildlife is not expected to be adversely affected by Kistler launch/reentry activities.

Water Resources

Residues from processing and launch operations would be eliminated using existing drainage systems. Evaporation exceeds precipitation in the area, so there would be little downward migration of residue contaminants into groundwater. Spills of fuel or other materials used on-site during daily operations would be contained and cleaned up and any residue properly disposed. Therefore, no adverse impacts to surface and groundwater are expected from the proposed launch/reentry operations.

Geology and Soils

Kistler facilities would be constructed on the ground surface or near the surface. Channels and berms would be constructed to minimize soil erosion. Operation of the launch facilities is not expected to affect subsurface geological media. Surface soils may show a slight increase in pH, augmenting nutrient uptake by vegetation. Thus, geology and soils are not expected to be adversely impacted.

Cultural and Native American Resources

A cultural resources reconnaissance of the proposed vehicle processing facility did not identify historic properties; however, a reconnaissance of the proposed launch site and reentry, landing and recovery site identified two potential historic properties. The first site is a previously recorded historic property that has been the subject of two previous data recovery efforts by the DOE. The second site was previously undiscovered. A data recovery plan to avoid adverse impacts to the previously undiscovered site was approved by the Nevada State Historic Preservation Office (SHPO) and the Advisory Council on Historic Preservation (ACHP). It was also determined that additional data recovery efforts on the previously discovered site would not yield new significant information (Nevada State SHPO September 23, 1997) (ACHP October 1, 1997).

To ensure that Native American concerns are considered and data recovery is conducted in a culturally sensitive manner, representatives of the Owens Valley Paiutes, Western Shoshones, and Southern Paiutes participated in the data recovery. The Rapid Cultural Assessment Team conducted an assessment and recommended measures to mitigate impacts to traditional cultural properties. Activities would be conducted in accordance with Section 106 of the National Historic Preservation Act of 1966.

Transportation

Additional on-site and off-site traffic generated by the Kistler proposed activities is expected to be minimal. Existing roads would accommodate additional traffic. The closing of two paved roads on NTS during launch and reentry activities for approximately one-hour per launch would be a temporary disruption.

Health and Safety

Worker health and safety issues arise primarily from accidents during construction, decontamination, decommissioning, and maintenance activities as well as from explosions, fires, or spills. Generally the impact would be limited to workers within the vicinity of the accident. For hazardous operations, workers would be removed to safe distances in case of a catastrophic event.

The health and safety of the general public would not be affected due to the remote location of the NTS. The potential to affect the public would be limited to actual in-flight emergencies. The flight ascent profile is designed to minimize risk to the public. Current Health and Safety programs at the NTS enhance Kistler's ability to respond to an on-site emergency. Accident scenarios would be detailed and evaluated in the Safety Review conducted by the FAA as part of its licensing and regulatory program.

At no time does the launch vehicle enter airspace controlled by the FAA for general and commercial aviation. Most proposed Kistler flights stay within NTS airspace; however, certain launch trajectories require flight outside restricted airspace and above FAA controlled airspace. On these missions, vehicle altitude remains greater than 45,720 meters (150,000 feet) in airspace not used by general or commercial aviation.

Kistler launch and reentry/recovery facilities would be located within the NTS and adjacent to the Nevada Test and Training Range. The nearest air traffic route used by civil aviation during a launch would be Jet Route 80-58 (J80-58), between Wilson Creek and Tonopah, Nevada. Upon reentry, the nearest air traffic route is J92 between Beatty and Boulder City, Nevada. Because of altitude separation distances, the nearest civil air traffic route structure would not be affected and no significant impacts are expected. Therefore, no adverse impacts to worker, public, or civil aviation health and safety are expected.

Cumulative Impacts

The proposed action has been evaluated for cumulative impacts on air quality, noise, socioeconomic, biological resources, cultural and Native American resources, transportation, and health and safety. The NTS EIS assessed foreseeable future actions, including the proposed Kistler activities. The NTS EIS concluded that no cumulative effects are expected as a result of the proposed Kistler facilities and operations.

No Action Alternative

Under the No Action Alternative, the FAA would issue a license for Kistler to conduct launch operations. The General Use Permit between DOE and the NTSDC would continue to exist but the subpermit between the NTSDC and Kistler would be void. Predicted environmental impacts of the proposed launch and reentry activities would not occur and the project area would remain in its current state.

Determination

An analysis of the proposed action has concluded that there are no significant short-term or long-term effects to the environment or surrounding populations. After careful and thorough consideration of the facts contained herein, the undersigned finds that the proposed Federal action is consistent with existing national environmental policies and objectives as set forth in Section 101(a) of NEPA and that it will not significantly affect the quality of the human environment or otherwise include any condition requiring consultation pursuant to Section 102 (2) (C) of NEPA. Therefore, an Environmental Impact Statement for the proposed action would not be required.

Issued in Washington, DC on April 13, 2000.
Patricia G. Smith,
Associate Administrator for Commercial Space Transportation.

[FR Doc. 00-9830 Filed 4-20-00; 8:45 am]

BILLING CODE 4910-13-P